FEDERAL COMMUNICATIONS COMMISSION

47 CFR Part 73

[DA 04-2130; MB Docket No. 04-203; RM-10976]

Radio Broadcasting Services; Broken Bow, Maxwell and McCook, NE

AGENCY: Federal Communications Commission.

ACTION: Proposed rule.

SUMMARY: This document sets forth a proposal to amend the FM Table of Allotments, Section 73.202(b) of the Commission's rules, 47 CFR § 73.202(b). The Audio Division requests comment on a petition and amendment to petition filed by McCook Radio Group, LLC, licensee of Station KRKU (FM), Channel 253C1, McCook, Nebraska. Petitioner proposes to delete Channel 253C1 at McCook, Nebraska, to allot Channel 253C1 at Maxwell, Nebraska, and to modify the license of Station KRKU (FM) accordingly. In order to accommodate this allotment, petitioner proposes to change the channel allotment for Station KBBN-FM, Broken Bow, Nebraska, from Channel 252C3 to Channel 237C2. Custer County Broadcasting Co., Inc. the owner of Station KBBN-FM, has consented to the channel change at Broken Bow. Channel 253C1 can be allotted to Maxwell in compliance with the Commission's minimum distance separation requirements at center city coordinates with no site restriction. The coordinates for Channel 253C1 at Maxwell are 41-04-44 North Latitude and 100-31-28 West Longitude. The coordinates for Channel 237C2 at Broken Bow are 41-23-49 North Latitude and 99-37-02 West Longitude, with a site restriction of 1.91 km (1.2 miles) east of Broken Bow. See SUPPLEMENTARY INFORMATION infra.

DATES: Comments must be filed on or before September 7, 2004, and reply comments on or before September 21, 2004.

ADDRESSES: Federal Communications Commission, Washington, DC 20554. In addition to filing comments with the FCC, interested parties should serve counsel for the petitioner and counsel for Custer County Broadcasting Co., Inc., the owner of Station KBBN-FM, Broken Bow, Nebraska, as follows: Jason Roberts, Esq., Irwin, Campbell, & Tannenwald, P.C., 1730 Rhode Island Avenue, NW—Suite 200, Washington, DC 20036-3101; Peter Gutmann, Esq., Womble, Carlyle, Sandridge, & Rice, PLLC, 1401 Eye Street, NW., Washington, DC 20005.

FOR FURTHER INFORMATION CONTACT: Deborah A. Dupont, Media Bureau (202) 418-7072.

SUPPLEMENTARY INFORMATION: This is a synopsis of the Commission's Further Notice of Proposed Rule Making, MB Docket No. 04-203, adopted July 14, 2004 and released July 16, 2004. The full text of this Commission decision is available for inspection and copying during normal business hours in the FCC Reference Information Center (Room CY-A257), 445 12th Street, SW., Washington, DC. The complete text of this decision may also be purchased from the Commission's copy contractor, Best Copy and Printing, Inc., 445 12th Street, SW, Room CY-B402, Washington, DC, 20554, (800) 378-3160, or via the company's Web site, http://www.bcpiweb.com.

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334 and 336.

§ 73.202 [Amended]

2. Section 73.202(b), the Table of FM Allotments under Nebraska, is amended by removing Channel 252C3 and adding Channel 237C2 at Broken Bow, by adding Maxwell, Channel 253C1, and by removing Channel 253C1 at McCook.

Federal Communications Commission.
John A. Karousos,
Assistant Chief, Audio Division, Media Bureau.

[FR Doc. 04-17241 Filed 7-28-04; 8:45 am]

BILLING CODE 6712-01-P